DEPARTMENT OF LABOR

Employment and Training Administration

[TA-W-64,368]

Newport Corporation, Irvine, CA; Notice of Termination of Investigation

Pursuant to Section 221 of the Trade Act of 1974, as amended, an investigation was initiated on November 6, 2008 in response to a worker petition filed the State Workforce Office on behalf of workers at Newport Corporation, Irvine, California.

The petitioner has requested that the petition be withdrawn. Consequently, the investigation has been terminated.

Signed at Washington, DC, this 22nd day of December 2008.
Linda G. Poole,
Certifying Officer, Division of Trade Adjustment Assistance.

[FR Doc. E8-31331 Filed 1-2-09; 8:45 am]

BILLING CODE 4510-FN-P